DEPARTMENT OF HEALTH AND HUMAN SERVICES

National Institutes of Health

National Center for Complementary and Alternative Medicine Announcement of Stakeholder Roundtable

ACTION: Notice.

SUMMARY: The National Center for Complementary and Alternative Medicine (NCCAM) invites the public to a Stakeholder Roundtable. Attendees will meet the NCCAM Director and discuss the Center's new strategic plan, activities, and priorities. The Roundtable will take place: 8:30 a.m.-11 a.m., Tuesday, April 26, 2011, Building 31, 6C, Room 10, National Institutes of Health, 9000 Rockville Pike, Bethesda, MD.

To allow for meaningful interaction, space is limited. To attend, please RSVP by Friday, April 1, 2011, by contacting Carina May at 301-915-9763 or cmay@thehillgroup.com.

Representatives from professional medical societies as well as consumer organizations are particularly encouraged to attend.

Background: The National Center for Complementary and Alternative Medicine (NCCAM) was established in 1999. The mission of NCCAM is to define, through rigorous scientific investigation, the usefulness and safety of complementary and alternative medicine interventions and their roles in improving health and health care

To date, NCCAM's efforts to meet its mission have been guided by NCCAM's strategic plans located on the NCCAM Web site at http://nccam.nih.gov/about/plans/.

Request for Participation: Representatives of stakeholder organizations are invited to provide input into the NCCAM's priorities and activities at a Stakeholder Roundtable. This event will give NCCAM stakeholders an opportunity to voice their opinions regarding future directions for research, training, outreach, and integration in complementary and alternative medicine (CAM). The Dialogue will be held: 8:30 a.m.-11 a.m., Tuesday, April 26, 2011, Building 31, 6C, Room 10, National Institutes of Health, 9000 Rockville Pike, Bethesda, MD.

NCCAM's director will provide an overview of NCCAM's history and current activities, followed by a discussion with attendees. Representatives from the complementary and alternative medicine community are particularly encouraged to attend. To allow for meaningful interaction, space is limited. To attend, please RSVP by Friday, April 1, 2011, by contacting Carina May at 301-915-9763 or cmay@thehillgroup.com.

FOR FURTHER INFORMATION CONTACT: To request more information, visit the NCCAM Web site at http://nccam.nih.gov/, or call 301-915-9763 or cmay@thehillgroup.com.

Dated: March 23, 2011.
Christy Thomsen,
Director, Office of Communications and Public Liaison, National Center for Complementary and Alternative Medicine, National Institutes of Health.

[FR Doc. 2011-7495 Filed 3-29-11; 8:45 am]

BILLING CODE 4140-01-P